DEPARTMENT OF AGRICULTURE

Foreign Agricultural Service

Trade Adjustment Assistance for Farmers

AGENCY: Foreign Agricultural Service, USDA.

ACTION: Notice.

The Administrator of the Foreign Agricultural Service (FAS) today accepted and began a review of a petition for trade adjustment assistance filed under the FY 2011 program by the New Hampshire Commercial Fishermen's Association on behalf of American lobster (Homarus americanus) fishermen who catch and market their lobster in New Hampshire. The Administrator will determine within 40 days whether or not increasing imports of American lobster contributed importantly to a greater than 15-percent decrease in the average annual price of lobster compared to the average of the 3 preceding marketing years. If the determination is affirmative, fishermen who land and market American lobster in New Hampshire will be eligible to apply to the Farm Service Agency for free technical assistance and cash benefits.

FOR FURTHER INFORMATION CONTACT: Trade Adjustment Assistance for Farmers Program Staff, FAS, USDA by phone: (202) 720-0638 or (202) 690-0633; or by e-mail at: tradeadjustment@fas.usda.gov; or visit the TAA for Farmers' Web site: http://www.fas.usda.gov/itp/taa.

Dated: July 21, 2010.
John D. Brewer
Administrator, Foreign Agricultural Service.

[FR Doc. 2010-18712 Filed 7-30-10; 8:45 am]

BILLING CODE 3410-10-P